DEPARTMENT OF ENERGY

Federal Energy Regulatory Commission

Notice of Effectiveness of Exempt Wholesale Generator Status

AES ES Gilbert, LLC | [EG19-63-000
Canal 3 Generating LLC | EG19-64-000
Sage Solar I LLC | EG19-65-000
Sage Solar II LLC | EG19-66-000
Sage Solar III LLC | EG19-67-000
Windhub Solar B, LLC | EG19-68-000
Glaciers Edge Wind Project, LLC | EG19-69-000
Buckleberry Solar, LLC | EG19-70-000
CCP-PL Lessee III, LLC | EG19-71-000
Endeavor Wind I, LLC | EG19-72-000
Endeavor Wind II, LLC | EG19-73-000
AES Lawai Solar, LLC | EG19-74-000
Karankawa Wind, LLC | EG19-75-000
Mohawk Solar LLC | EG19-76-000
PPM Roaring Brook, LLC | EG19-77-000
Montague Wind Power Facility, LLC | EG19-78-000
Otter Creek Wind Farm LLC | EG19-79-000
La Joya Wind, LLC | EG19-80-000
High Lonesome Mesa Wind, LLC | EG19-81-000
225DD 8me LLC | EG19-82-000
FirstLight CT Housatonic LLC | EG19-83-000
FirstLight CT Hydro LLC | EG19-84-000
FirstLight MA Hydro LLC | EG19-85-000
Northfield Mountain LLC | EG19-86-000
AES Alamitos Energy, LLC | EG19-87-000
AES Huntington Beach Energy, LLC | EG19-88-000
Griffin Trail Wind, LLC; | EG19-89-000]

Take notice that during the month of May 2019, the status of the above-captioned entities as Exempt Wholesale Generators became effective by operation of the Commission's regulations. 18 CFR 366.7(a) (2018).

Dated: June 6, 2019.
Kimberly D. Bose,
Secretary.

[FR Doc. 2019-12399 Filed 6-11-19; 8:45 am]

BILLING CODE 6717-01-P